DEPARTMENT OF HOMELAND SECURITY

Federal Emergency Management Agency

44 CFR Part 67

[Docket ID FEMA-2010-0003; Internal Agency Docket No. FEMA-B-1089]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 23, 2010.

ADDRESSES: The corresponding preliminary Flood Insurance Rate Map (FIRM) for the proposed BFEs for each community is available for inspection at the community's map repository. The respective addresses are listed in the table below.

You may submit comments, identified by Docket No. FEMA-B-1089, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location** | *Elevation in feet (NGVD) +Elevation in feet (NAVD) #Depth in feet above ground ‸Elevation in meters (MSL): Existing | *Elevation in feet (NGVD) +Elevation in feet (NAVD) #Depth in feet above ground ‸Elevation in meters (MSL): Modified
City of Alexandria, Virginia
Backlick Run | Approximately 0.4 mile downstream of South Van Dorn Street | +79 | +80
| Approximately 600 feet upstream of South Van Dorn Street | +94 | +95
Cameron Run | Just upstream of the confluence with Hooffs Run | +11 | +12
| Approximately 1,750 feet upstream of I-495 (Capital Beltway) | +24 | +25
Holmes Run | Approximately 450 feet downstream of I-395 | +80 | +81
| Just downstream of I-395 | +84 | +90
Hooffs Run | At the confluence with Cameron Run | +11 | +12
| Approximately 260 feet upstream of East Linden Street | None | +18
Old Cameron Run Channel | At the confluence with Hooffs Run | +11 | +12
| Approximately 270 feet upstream of Mill Road/Andrews Lane | +11 | +13
Strawberry Run | Just upstream of Eisenhower Avenue | None | +35
| Approximately 650 feet upstream of Fort Williams Parkway | +128 | +138
Taylor Run | Approximately 300 feet downstream of Mill Road | +24 | +25
| Approximately 0.7 mile upstream of Janneys Lane | None | +148
Timber Branch | Just upstream of Timber Branch Parkway | +69 | +70
| Approximately 350 feet upstream of West Braddock Road | None | +134
Tributary 1 to Cameron Run | Approximately 200 feet upstream of the confluence with Cameron Run | None | +46
| Approximately 0.5 mile upstream of the confluence with Cameron Run | None | +66
Tributary 1 to Taylor Run | At the confluence with Taylor Run | +24 | +25
| Approximately 1,000 feet upstream of the confluence with Taylor Run | None | +29
Tributary 2 to Taylor Run | At the confluence with Taylor Run | +81 | +82
| Just downstream of Key Drive | +160 | +164
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES
City of Alexandria
Maps are available for inspection at 301 King Street, Alexandria, VA 22314.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Franklin County, Arkansas, and Incorporated Areas
Arkansas River | Approximately 412 feet downstream of the confluence with Mikes Creek | +366 | +367 | Unincorporated Areas of Franklin County.
| Approximately 0.52 mile upstream of the confluence with Mikes Creek | +366 | +367
Mulberry River | Just upstream of Union Pacific Railroad | None | +392 | Unincorporated Areas of Franklin County.
| Just downstream of I-40 | None | +410
Smith Creek | Just upstream of the confluence with Unnamed Tributary | +364 | +365 | Unincorporated Areas of Franklin County.
| Approximately 1.02 mile upstream of the confluence with Unnamed Tributary | +364 | +365 |
Unnamed Tributary | Just upstream of the confluence with Smith Creek | +364 | +365 | Unincorporated Areas of Franklin County.
| Approximately 0.55 mile upstream of the confluence with Smith Creek | +364 | +365
White Oak Creek | Approximately 0.62 mile downstream of Union Pacific Railroad | +384 | +393 | Unincorporated Areas of Franklin County.
| Approximately 1,865 feet upstream of Union Pacific Railroad | +384 | +393
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Franklin County
Maps are available for inspection at 211 West Commercial Street, Ozark, AR 72949
Sharp County, Arkansas, and Incorporated Areas
Curia Creek | Approximately 1,490 feet downstream of State Highway 230 | None | +603 | Unincorporated Areas of Sharp County.
| Just downstream of State Highway 230 | None | +608
Lick Fork | Just downstream of Gravel Pit Road | None | +595 | Unincorporated Areas of Sharp County.
| Approximately 157 feet downstream of Gravel Pit Road | None | +597
Right Prong Otter Creek | Approximately 500 feet upstream of Toshiming Trace | None | +491 | Unincorporated Areas of Sharp County.
| Approximately 925 feet downstream of Waketa Drive | None | +530
South Big Creek Tributary | Approximately 750 feet downstream of Jackson Spring Road | None | +549 | Unincorporated Areas of Sharp County.
| Approximately 600 feet downstream of Levee Road | None | +659
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Sharp County
Maps are available for inspection at 718 Ash Flat Drive, Ash Flat, AR 72513.
Mendocino County, California, and Incorporated Areas
Ackerman Creek | Upstream side of North State Street | None | +626 | Pinoleville Indian Reservation, Unincorporated Areas of Mendocino County.
| Approximately 0.7 mile upstream of U.S. Route 101 southbound lanes | None | +643
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Pinoleville Indian Reservation
Maps are available for inspection at 500 Pinoleville Drive, Suite B, Ukiah, CA 95482.
Unincorporated Areas of Mendocino County
Maps are available for inspection at 890 North Bush Street, Ukiah, CA 95482.
St. Johns County, Florida, and Incorporated Areas
Kendall Creek | Approximately 300 feet upstream of Roberts Road | *24 | *25 | Unincorporated Areas of St. Johns County.
| Approximately 700 feet upstream of Roberts Road | *25 | *26
Orange Grove Branch | Approximately 4,600 feet upstream of Orange Branch Trail | *25 | *26 | Unincorporated Areas of St. Johns County.
| Approximately 5,700 feet upstream of Orange Branch Trail | *25 | *27
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of St. Johns County
Maps are available for inspection at 4020 Lewis Speedway, St. Augustine, FL 32084.
Iowa County, Iowa, and Incorporated Areas
Old Mans Creek | Approximately 1,800 feet downstream of the corporate limits of the City of Williamsburg | None | +754 | Unincorporated Areas of Iowa County.
| At the southernmost corporate limit of the City of Williamsburg | None | +756
| Approximately 300 feet upstream of Industrial Park Road | None | +762
| Approximately 2,000 feet upstream of State Street | None | +763
| Approximately 700 feet upstream of State Route 149 | None | +764
| Approximately 2,600 feet upstream of State Route 149 | None | +765
| Approximately 3,800 feet upstream of State Route 149 | None | +766
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Iowa County
Maps are available for inspection at 901 Court Avenue, Marengo, IA 52301.
Muscatine County, Iowa, and Incorporated Areas
Mississippi River | Approximately 7.1 miles downstream of State Route 92 | +555 | +554 | City of Muscatine, Unincorporated Areas of Muscatine County.
| Approximately 3.3 miles upstream of the confluence with Pine Creek | +561 | +560
Mud Creek | Approximately 1.2 mile upstream of Story Avenue | None | +658 | City of Wilton.
| Approximately 1.4 mile upstream of Story Avenue | None | +658
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Muscatine
Maps are available for inspection at 215 Sycamore Street, Muscatine, IA 52761.
City of Wilton
Maps are available for inspection at 104 East 4th Street, Wilton, IA 52778.
Unincorporated Areas of Muscatine County
Maps are available for inspection at 3610 Park Avenue West, Muscatine, IA 52761.
Crawford County, Illinois, and Incorporated Areas
Mill Creek | Approximately at 1800th Avenue | None | +452 | Unincorporated Areas of Crawford County.
| Approximately 975 feet upstream of North Street | None | +452
Mill Creek Tributary | Approximately 800 feet upstream of the confluence with Mill Creek | +459 | +458 | Unincorporated Areas of Crawford County, Village of Hutsonville.
| Approximately 2,300 feet upstream of the confluence with Mill Creek | None | +479
Sugar Creek | Approximately at Franklin Road | +439 | +442 | Village of Palestine.
| Approximately 2,370 feet upstream of County Route 5 | +445 | +444
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Crawford County
Maps are available for inspection at the County Courthouse, 100 Douglas Street, Robinson, IL 62454.
Village of Hutsonville
Maps are available for inspection at the Village Hall, 113 South Main Street, Hutsonville, IL 62433.
Village of Palestine
Maps are available for inspection at the Village Hall, 301 South Main Street, Palestine, IL 62451.
Butler County, Kentucky, and Incorporated Areas
Barren River (Backwater effects from Green River) | From the confluence with the Green River to approximately 0.6 mile upstream of the confluence with Little Muddy Creek | +423 | +424 | Unincorporated Areas of Butler County.
Big Bull Creek (Backwater effects from Green River) | From the confluence with the Green River to approximately 0.5 mile upstream of Johnson Cemetery Road | None | +428 | Unincorporated Areas of Butler County.
Big Reedy Creek (Backwater effects from Green River) | From the confluence with the Green River to approximately 1,202 feet downstream of the confluence with Big Reedy Creek Tributary 4 | None | +433 | Unincorporated Areas of Butler County.
Deerlick Creek (Backwater effects from Green River) | From the confluence with the Mud River to approximately 935 feet upstream of Penrod Road | None | +404 | Unincorporated Areas of Butler County.
Deerlick Creek Tributary 6 (Backwater effects from Green River) | From the confluence with Deerlick Creek to approximately 765 feet upstream of the confluence with Deerlick Creek | None | +404 | Unincorporated Areas of Butler County.
East Prong Indian Camp Creek (Backwater effects from Green River) | From the confluence with Indian Camp Creek to approximately 1,179 feet downstream of the confluence with East Prong Indian Camp Creek | None | +415 | Unincorporated Areas of Butler County.
Gary Creek (Backwater effects from Green River) | From the confluence with Little Reedy Creek to approximately 0.9 mile upstream of the confluence with Little Reedy Creek | None | +429 | Unincorporated Areas of Butler County.
Grassy Lick Creek (Backwater effects from Green River) | From the confluence with Muddy Creek to approximately 1.1 mile downstream of Sandy Creek Road | None | +407 | Unincorporated Areas of Butler County.
Green River | At the confluence with the Mud River | +403 | +404 | City of Morgantown, City of Rochester, Unincorporated Areas of Butler County.
| At approximately 1.7 mile upstream of Reedyville Road | +437 | +438
Hickory Camp Creek (Backwater effects from Green River) | From the confluence with Panther Creek to approximately 478 feet upstream of the confluence with Hickory Camp Creek Tributary 1 | +403 | +405 | Unincorporated Areas of Butler County.
Hickory Camp Creek Tributary 1 (Backwater effects from Green River) | From the confluence with Hickory Camp Creek to approximately 676 feet upstream of the confluence with Hickory Camp Creek | None | +405 | Unincorporated Areas of Butler County.
Indian Camp Creek (Backwater effects from Green River) | From the confluence with the Green River to approximately 1.1 mile downstream of Dexterville-Gilstrap Road | None | +415 | Unincorporated Areas of Butler County.
Lindsey Creek (Backwater effects from Green River) | From the confluence with East Prong Indian Camp Creek to approximately 0.4 mile downstream of Brownsville Road | None | +415 | Unincorporated Areas of Butler County.
Little Bull Creek (Backwater effects from Green River) | From the confluence with the Green River to approximately 0.6 mile upstream of the confluence with Tallow Branch | None | +425 | Unincorporated Areas of Butler County.
Little Reedy Creek (Backwater effects from Green River) | From the confluence with the Green River to approximately 0.9 mile upstream of the confluence with Rosy Creek | None | +429 | Unincorporated Areas of Butler County.
Meffords Branch (Backwater effects from Green River) | From the confluence with the Mud River to approximately 1,425 feet upstream of Perry Harper Road | None | +404 | Unincorporated Areas of Butler County.
Meffords Branch Tributary 4 (Backwater effects from Green River) | From the confluence with Meffords Branch to approximately 0.6 mile upstream of the confluence with Meffords Branch | None | +404 | Unincorporated Areas of Butler County.
Mud River (Backwater effects from Green River) | From the confluence with the Green River to approximately 2.2 miles upstream of the confluence with Deerlick Creek | +403 | +404 | Unincorporated Areas of Butler County, City of Rochester.
Mud River Tributary 17 (Backwater effects from Green River) | From the confluence with the Green River to approximately 314 feet upstream of Rochester Road | +403 | +404 | Unincorporated Areas of Butler County, City of Rochester.
Mud River Tributary 17.2 (Backwater effects from Green River) | From the confluence with Mud River Tributary 17 to approximately 312 feet upstream of Rochester Road | None | +404 | Unincorporated Areas of Butler County.
Muddy Creek (Backwater effects from Green River) | From the confluence with the Green River to approximately 877 feet upstream of the confluence with Muddy Creek Tributary 18 | None | +407 | Unincorporated Areas of Butler County.
Muddy Creek Tributary 18 (Backwater effects from Green River) | From the confluence with Muddy Creek to approximately 1,306 feet upstream of the confluence with Muddy Creek | None | +407 | Unincorporated Areas of Butler County.
Muddy Creek Tributary 27 (Backwater effects from Green River) | From the confluence with Muddy Creek to approximately 1,421 feet downstream of Muddy Creek Tributary 27.2 | None | +407 | Unincorporated Areas of Butler County.
Muddy Creek Tributary 39.1 (Backwater effects from Green River) | From the confluence with Muddy Creek to approximately 669 feet downstream of Muddy Creek Tributary 39.1 | None | +407 | Unincorporated Areas of Butler County.
Panther Creek (Backwater effects from Green River) | From the confluence with the Green River to approximately 1,550 feet downstream of G. Southerland Road | +403 | +405 | Unincorporated Areas of Butler County.
Pipe Spring Hollow (Backwater effects from Green River) | From the confluence with the Green River to just downstream of William H. Natcher Parkway | +409 | +408 | Unincorporated Areas of Butler County.
Pitman Creek (Backwater effects from Green River) | From the confluence with Welch Creek to approximately 554 feet upstream of the confluence with Pitman Creek Tributary 3 | None | +419 | Unincorporated Areas of Butler County.
Pitman Creek Tributary 3 (Backwater effects from Green River) | From the confluence with Pitman Creek to approximately 280 feet upstream of the confluence with Pitman Creek | None | +419 | Unincorporated Areas of Butler County.
Renfrow Creek (Backwater effects from Green River) | From the confluence with the Green River to approximately 177 feet downstream of Bowling Green Road | None | +419 | Unincorporated Areas of Butler County.
Renfrow Creek Tributary 6 (Backwater effects from Green River) | From the confluence with Renfrow Creek to approximately 1,236 feet downstream of Embry Way | None | +419 | Unincorporated Areas of Butler County.
Renfrow Creek Tributary 7 (Backwater effects from Green River) | From the confluence with Renfrow Creek to just downstream of South Main Street | None | +419 | Unincorporated Areas of Butler County.
Renfrow Creek Tributary 8 (Backwater effects from Green River) | From the confluence with Renfrow Creek to approximately 0.5 mile upstream of the confluence with Renfrow Creek | None | +419 | Unincorporated Areas of Butler County.
Renfrow Creek Tributary 9 (Backwater effects from Green River) | From the confluence with Renfrow Creek to just upstream of East Whalen Road | None | +419 | Unincorporated Areas of Butler County.
Rosy Creek (Backwater effects from Green River) | From the confluence with Little Reedy Creek to approximately 0.7 mile upstream of the confluence with Little Reedy Creek | None | +429 | Unincorporated Areas of Butler County.
Sandy Creek (Backwater effects from Green River) | From the confluence with Muddy Creek to approximately 494 feet downstream of Martin Road | None | +407 | Unincorporated Areas of Butler County.
Sandy Creek Tributary 5 (Backwater effects from Green River) | From the confluence with Sandy Creek to just upstream of Dunbar-Leetown Road | None | +407 | Unincorporated Areas of Butler County.
Tallow Branch (Backwater effects from Green River) | From the confluence with Little Bull Creek to approximately 0.5 mile upstream of the confluence with Little Bull Creek | None | +426 | Unincorporated Areas of Butler County.
Welch Creek (Backwater effects from Green River) | From the confluence with the Green River to just downstream of Brownsville Road | None | +419 | Unincorporated Areas of Butler County.
West Prong Indian Camp Creek (Backwater effects from Green River) | From the confluence with Indian Camp Creek to approximately 3.7 miles upstream of the confluence with Indian Camp Creek | None | +414 | Unincorporated Areas of Butler County.
Wolfpen Hollow (Backwater effects from Green River) | From the confluence with East Prong Indian Camp Creek to approximately 1,205 feet downstream of McKendree Chapel Road | None | +415 | Unincorporated Areas of Butler County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Morgantown
Maps are available for inspection at City Hall, 117 North Main Street, Morgantown, KY 42261.
City of Rochester
Maps are available for inspection at City Hall, 672 Russellville Street, Rochester, KY 42273.
Unincorporated Areas of Butler County
Maps are available for inspection at the County Courthouse, 110 North Main Street, Morgantown, KY 42261.
Hart County, Kentucky, and Incorporated Areas
Bacon Creek (Backwater effects from Nolin Lake) | From the confluence with Nolin Lake to approximately 0.7 mile upstream of Charles Jaggers Road | None | +560 | Unincorporated Areas of Hart County.
Bacon Creek Tributary 41 (Backwater effects from Nolin Lake) | From the confluence with Bacon Creek to approximately 0.5 mile upstream of the confluence with Bacon Creek | None | +560 | Unincorporated Areas of Hart County.
Cane Run (Backwater effects from Nolin Lake) | From the confluence with Nolin Lake to approximately 0.5 mile upstream of the confluence with Cane Run Tributary 11 | None | +560 | Unincorporated Areas of Hart County.
Cane Run Tributary 13 (Backwater effects from Nolin Lake) | From the confluence with Nolin Lake to approximately 0.8 mile upstream of the confluence with Nolin Lake | None | +560 | Unincorporated Areas of Hart County.
Little Dog Creek (Backwater effects from Nolin Lake) | From the confluence with Nolin Lake to approximately 1.3 mile upstream of the confluence with Nolin Lake | None | +560 | Unincorporated Areas of Hart County.
Nolin Lake | Entire shoreline | None | +560 | Unincorporated Areas of Hart County.
Nolin River (Backwater effects from Nolin Lake) | From the confluence with Nolin Lake to approximately 3.1 miles downstream of Wheelers Mill Road | None | +560 | Unincorporated Areas of Hart County.
Nolin River Tributary 2 (Backwater effects from Nolin Lake) | From the confluence with Nolin Lake to approximately 1,692 feet upstream of the confluence with Nolin Lake | None | +560 | Unincorporated Areas of Hart County.
Nolin River Tributary 24 (Backwater effects from Nolin Lake) | From the confluence with Nolin Lake to approximately 268 feet upstream of Robbin Lane | None | +560 | Unincorporated Areas of Hart County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Hart County
Maps are available for inspection at the Hart County Courthouse, 200 Main Street, Munfordville, KY 42765.
Lawrence County, Kentucky, and Incorporated Areas
Big Branch (Backwater effects from Yatesville Lake) | From the confluence with Brushy Creek to approximately 1.6 mile upstream of the confluence with Brushy Creek | None | +644 | Unincorporated Areas of Lawrence County.
Blaine Creek | Just downstream of the confluence with Hood Creek | None | +650 | City of Blaine.
| Approximately 0.5 mile upstream of the confluence with Hood Creek | None | +652
Blaine Creek (Backwater effects from Yatesville Lake) | From the confluence with Yatesville Lake to approximately 2.0 miles upstream of the confluence with Yatesville Lake | None | +644 | Unincorporated Areas of Lawrence County.
Borders Branch (Backwater effects from Levisa Fork) | From the confluence with Levisa Fork to approximately 0.4 mile upstream of the confluence with Levisa Fork | None | +598 | Unincorporated Areas of Lawrence County.
Brushy Creek (Backwater effects from Yatesville Lake) | From the confluence with Yatesville Lake to approximately 1.6 mile upstream of the confluence with Yatesville Lake | None | +644 | Unincorporated Areas of Lawrence County.
Daniels Creek (Backwater effects from Yatesville Lake) | From the confluence with Yatesville Lake to approximately 0.5 mile upstream of the confluence with Yatesville Lake | None | +644 | Unincorporated Areas of Lawrence County.
Greenbrier Creek (Backwater effects from Yatesville Lake) | From the confluence with Yatesville Lake to approximately 0.6 mile upstream of the confluence with Yatesville Lake | None | +644 | Unincorporated Areas of Lawrence County.
Harriet Branch (Backwater effects from Yatesville Lake) | From the confluence with Yatesville Lake to approximately 0.5 mile upstream of the confluence with Yatesville Lake | None | +644 | Unincorporated Areas of Lawrence County.
Hood Creek (Backwater effects from Blaine Creek) | From the confluence with Blaine Creek to approximately 1,700 feet upstream of the confluence with Blaine Creek | None | +650 | City of Blaine.
Irish Creek (Backwater effects from Yatesville Lake) | From the confluence with Blaine Creek to approximately 2.0 miles upstream of the confluence with Blaine Creek | None | +644 | Unincorporated Areas of Lawrence County.
Left Fork Little Blaine Creek (Backwater effects from Yatesville Lake) | From the confluence with Yatesville Lake to approximately 0.9 mile upstream of the confluence with Yatesville Lake | None | +644 | Unincorporated Areas of Lawrence County.
Levisa Fork | At the confluence with Lick Creek East | None | +575 | City of Louisa.
| Approximately 1.5 mile downstream of KY-644 | None | +575
Lick Creek East (Backwater effects from Levisa Fork) | From the confluence with Levisa Fork to Locust Street | None | +567 | City of Louisa.
Newcomb Creek (Backwater effects from Blaine Creek) | From approximately 350 feet upstream of KY-707 to approximately 0.5 mile upstream of KY-707 | None | +567 | Unincorporated Areas of Lawrence County.
Pleas Creek (Backwater effects from Yatesville Lake) | From the confluence with Yatesville Lake to approximately 0.3 mile upstream of the confluence with Yatesville Lake | None | +644 | Unincorporated Areas of Lawrence County.
Rich Creek (Backwater effects from Yatesville Lake) | From the confluence with Yatesville Lake to approximately 0.9 mile upstream of the confluence with Yatesville Lake | None | +644 | Unincorporated Areas of Lawrence County.
Right Fork Irish Creek (Backwater effects from Yatesville Lake) | From the confluence with Irish Creek to approximately 1,100 feet upstream of the confluence with Irish Creek | None | +644 | Unincorporated Areas of Lawrence County.
Right Fork Little Blaine Creek (Backwater effects from Yatesville Lake) | From the confluence with Yatesville Lake to approximately 1.1 mile upstream of the confluence with Yatesville Lake | None | +644 | Unincorporated Areas of Lawrence County.
Rockcastle Creek (Backwater effects from Tug Fork) | From just upstream of the confluence with Tug Fork to approximately 2.2 miles upstream of the confluence with Tug Fork | None | +598 | Unincorporated Areas of Lawrence County.
Two Mile Creek (Backwater effects from Big Sandy River) | From CSX Railroad to approximately 600 feet upstream of CSX Railroad | None | +572 | City of Louisa.
Upper Twin Branch (Backwater effects from Yatesville Lake) | From the confluence with Yatesville Lake to approximately 0.3 mile upstream of the confluence with Yatesville Lake | None | +644 | Unincorporated Areas of Lawrence County.
Yatesville Lake | Entire shoreline | None | +644 | Unincorporated Areas of Lawrence County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Blaine
Maps are available for inspection at 591 KY-201 South, Blaine, KY 41124.
City of Louisa
Maps are available for inspection at 215 North Main Cross Street, Louisa, KY 41230.
Unincorporated Areas of Lawrence County
Maps are available for inspection at 122 Ricky Skaggs Boulevard, Louisa, KY 41230.
Meade County, Kentucky, and Incorporated Areas
Ohio River | Approximately 2.8 miles upstream of the confluence with Watson Run (River Mile 683.25) | +420 | +421 | City of Brandenburg, Unincorporated Areas of Meade County.
| Approximately 0.7 mile downstream of Lock and Dam No. 43 (River Mile 634.0) | +441 | +442
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Brandenburg
Maps are available for inspection at 737 High Street, Brandenburg, KY 40108.
Unincorporated Areas of Meade County
Maps are available for inspection at the Office of the Executive County Judge, 516 Fairway Drive, Brandenburg, KY 40108.
Scott County, Kentucky, and Incorporated Areas
Dry Run | Approximately 0.5 mile upstream of the confluence with North Elkhorn Creek | +800 | +801 | City of Georgetown, Unincorporated Areas of Scott County.
| Approximately 1.2 mile upstream of Burton Pike | None | +880
Dry Run Tributary 1 (Backwater effects from Dry Run) | From the confluence with Dry Run to approximately 0.3 mile downstream of I-75 | None | +828 | Unincorporated Areas of Scott County.
Hall Branch (Backwater effects from Eagle Creek) | From the confluence with Eagle Creek to approximately 0.3 mile upstream of Hinton-Sadieville Road | None | +780 | Unincorporated Areas of Scott County.
Lane Run | At the confluence with North Elkhorn Creek | +812 | +811 | City of Georgetown, Unincorporated Areas of Scott County.
| Approximately 850 feet upstream of Delaplain Road | None | +889
McCracken Creek (Backwater effects from North Elkhorn Creek) | From the confluence with North Elkhorn Creek to approximately 269 feet downstream of the confluence with McCracken Creek Tributary 2 | None | +782 | City of Georgetown, Unincorporated Areas of Scott County.
Royal Springs Creek (Backwater effects from North Elkhorn Creek) | From the confluence with North Elkhorn Creek to approximately 0.4 mile upstream of Paddler Lane | None | +798 | City of Georgetown, Unincorporated Areas of Scott County.
South Elkhorn Creek | Just downstream of South Weisenberger Mill Road | None | +813 | Unincorporated Areas of Scott County.
| At the confluence with Town Branch | None | +816
Spoon Branch (Backwater effects from Eagle Creek) | From Sadieville Road to approximately 783 feet upstream of Sadieville Road | None | +778 | City of Georgetown, Unincorporated Areas of Scott County.
Town Branch (Backwater effects from South Elkhorn Creek) | From the confluence with South Elkhorn Creek to approximately 0.4 mile upstream of the confluence with South Elkhorn Creek | None | +816 | Unincorporated Areas of Scott County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Georgetown
Maps are available for inspection at City Hall, 100 Court Street, Georgetown, KY 40324.
Unincorporated Areas of Scott County
Maps are available for inspection at 100 East Main Street, Georgetown, KY 40324.
Avoyelles Parish, Louisiana, and Incorporated Areas
Bayou Blanc | At the confluence with the Petite Riviere | None | +63 | Unincorporated Areas of Avoyelles Parish.
| Approximately 300 feet upstream of the confluence with the Petite Riviere | None | +63
Bayou Perit | Approximately 720 feet downstream of Garan Lane | None | +59 | Unincorporated Areas of Avoyelles Parish.
| Just downstream of Garan Lane | None | +60
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Avoyelles Parish
Maps are available for inspection at 312 North Main Street, Marksville, LA 71351.
Ouachita Parish, Louisiana, and Incorporated Areas
Black Bayou | Just upstream of Glenwood Drive | +74 | +75 | City of West Monroe, Unincorporated Areas of Ouachita Parish.
| Just downstream of Blanchard Street | +80 | +79
Black Bayou Lake | Approximately 1.6 mile downstream of Swatz Fairbanks Road | +76 | +75 | Unincorporated Areas of Ouachita Parish.
| Just upstream of Swatz Fairbanks Road | +96 | +95
Black Bayou Tributary | Approximately 500 feet downstream of McMillan Road | +80 | +79 | City of West Monroe, Unincorporated Areas of Ouachita Parish.
| Approximately 1,320 feet upstream of Norris Road | None | +115
Canal L-11 | Approximately 890 feet downstream of Stubbs Vinson Road | +70 | +69 | Unincorporated Areas of Ouachita Parish.
| Approximately 430 feet downstream of Chauvin Bayou/Canal L-11 Control Structure | +74 | +73
East Branch Oliver Road Canal | Just downstream of the unnamed railroad | +74 | +75 | City of Monroe.
| Approximately 500 feet upstream of Emerson Street | #1 | +76
Gravel Pit Branch | At the confluence with Black Bayou | +80 | +79 | City of West Monroe.
| Just upstream of I-20 | +86 | +89
Oliver Road Canal | Just downstream of Breard Road | +71 | +72 | City of West Monroe.
| Approximately 0.4 mile downstream of Oliver Road | +75 | +76
Ouachita River | Just upstream of Horseshoe Lake Road | None | +87 | Town of Sterlington, Unincorporated Areas of Ouachita Parish.
| Approximately 1.0 mile upstream of Ouachita City Road | None | +88
Tupawek Bayou | Approximately 1,000 feet downstream of Dean Chapel Road | None | +97 | Unincorporated Areas of Ouachita Parish.
| Approximately 680 feet downstream of Laird Road | None | +139
West Prong | Just upstream of Millhaven Road | +69 | +70 | City of Monroe.
Youngs Bayou | Just upstream of 18th Street | +75 | +74
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Monroe
Maps are available for inspection at the Engineering Department, 400 Lea Joyner Expressway, Monroe, LA 71210.
City of West Monroe
Maps are available for inspection at the Planning and Zoning Office, 2305 North 7th Street, West Monroe, LA 71291.
Town of Sterlington
Maps are available for inspection at the Public Works Department, 103 High Street, Sterlington, LA 71280.
Unincorporated Areas of Ouachita Parish
Maps are available for inspection at the Ouachita Parish Health Unit, 1650 Desiard Street, Suite 202, Monroe, LA 71201.
Ottawa County, Michigan (All Jurisdictions)
Alward Drain | At the confluence with Rush Creek | None | +615 | Charter Township of Georgetown, City of Hudsonville.
| Approximately 80 feet upstream of 36th Avenue | None | +623
Bareman Drain | At the confluence with County Drain No. 15 & 17 | None | +615 | Township of Holland.
| Approximately 80 feet upstream of Quincy Street | None | +633
Bark Creek | At the confluence with Bruces Bayou | None | +590 | Township of Crockery.
| Approximately 0.6 mile downstream of Cleveland Street | None | +590
Bass Creek | At the confluence with the Grand River | None | +595 | Charter Township of Allendale.
| Approximately 0.5 mile upstream of Bass Drive | None | +595
Bliss Creek Intercounty Drain | Approximately 975 feet downstream of Port Sheldon Street | +607 | +608 | Charter Township of Georgetown.
| At the confluence with Knight Intercounty Drain | +645 | +646
Bliss Creek Intercounty Drain Diversion Channel | At the downstream side of Stonehenge Drive | +627 | +628 | Charter Township of Georgetown.
| At the divergence from Bliss Creek Intercounty Drain | +632 | +633
Buttermilk Creek | Approximately 680 feet downstream of Oak Street | +617 | +618 | City of Hudsonville, Township of Jamestown.
| Approximately 155 feet upstream of Quincy Street | None | +685
Castle Creek | At the confluence with the Grand River | None | +595 | Charter Township of Polkton.
| Approximately 0.6 mile upstream of Leonard Street | None | +595
County Drain No. 15 & 17 | At the confluence with County Drain No. 8, North Holland Drain, and County Drain No. 40 | +612 | +611 | Township of Holland.
| Approximately 1,520 feet upstream of Riley Street | None | +619
County Drain No. 28 | At the confluence with County Drain No. 40 and Windmill Creek | +596 | +593 | Township of Holland.
| Approximately 125 feet upstream of James Street | None | +607
County Drain No. 4 & 43 | At the confluence with Noordeloos Creek | +596 | +597 | Township of Holland.
| Approximately 0.4 mile upstream of 104th Avenue | +596 | +597
County Drain No. 40 | At the confluence with County Drain No. 28 and Windmill Creek | +596 | +593 | Township of Holland.
| At the confluence with County Drain No. 8, North Holland Drain, and County Drain No. 15 & 17 | +612 | +611
County Drain No. 8 and North Holland Drain | At the confluence with County Drain No. 15 & 17 and County Drain No. 40 | +612 | +611 | Township of Holland.
| Approximately 130 feet upstream of Quincy Street | None | +625
Crockery Creek | At the confluence with the Grand River | None | +591 | Township of Crockery.
| At the upstream side of Fitzgerald Street | None | +591
DeWeerd Drain | At the confluence with Rush Creek | +609 | +610 | Charter Township of Georgetown, City of Hudsonville, Township of Jamestown.
| Approximately 570 feet upstream of I-196 North | None | +661
Deer Creek | At the upstream side of the I-96 West | None | +614 | Charter Township of Polkton.
Deer Creek | At the confluence with the Grand River | None | +597 | Charter Township of Polkton, Charter Township of Tallmadge.
| Approximately 1 mile upstream of Leonard Street | None | +597
Deer Creek of Crockery | At the confluence with Bruces Bayou | None | +589 | Township of Crockery.
| At the downstream side of Leonard Road | None | +589
East Georgetown Shores Lake | Entire shoreline | None | +609 | Charter Township of Georgetown.
Fort Village Creek | At the confluence with Crockery Creek | None | +591 | Township of Crockery.
| Approximately 1,300 feet downstream of 104th Avenue | None | +591
Grand River | Approximately 0.6 mile upstream of the confluence with Mill House Bayou | None | +588 | Charter Township of Allendale, Charter Township of Polkton, Township of Crockery, Township of Robinson, Charter Township of Tallmadge.
| Approximately 350 feet upstream of Lake Michigan Drive | +601 | +600
Huizenga Intercounty Drain | At the confluence with Rush Creek | +605 | +606 | Charter Township of Georgetown.
| At the downstream side of Kenowa Avenue Southwest | +615 | +616
Knight Intercounty Drain | At the confluence with Bliss Creek Intercounty Drain | +645 | +646 | Charter Township of Georgetown, Township of Jamestown.
| At the downstream side of Kenowa Avenue Southwest | None | +651
Little Robinson Bayou | At the confluence with the Grand River | None | +588 | Township of Robinson.
| At the downstream side of 128th Avenue | None | +588
Macatawa River/Black Creek of Zeeland Drain | Approximately 0.8 mile upstream of River Avenue | +585 | +584 | City of Holland, Township of Holland, Township of Zeeland.
| Approximately 400 feet upstream of Felch Street | None | +607
Meadowbrook Drain | At the confluence with Bliss Creek Intercounty Drain | None | +616 | Charter Township of Georgetown.
| Approximately 620 feet upstream of 8th Avenue | None | +618
Miller I.C. | At the confluence with Bliss Creek, Intercounty Drain, and Knight Intercounty Drain | +645 | +646 | Charter Township of Georgetown, Township of Jamestown.
| Approximately 600 feet downstream of Ransom Street Southwest | None | +650
Morning Dew Lake | Entire shoreline | None | +610 | Township of Holland.
Noordeloos Creek | At the confluence with Black Creek of Zeeland Drain | +596 | +597 | City of Holland, City of Zeeland, Township of Holland.
| Downstream side of Paw Paw Drive | None | +600
Northwest Branch of Rush Creek | Upstream side of 40th Avenue | None | +615 | Charter Township of Georgetown.
| Downstream side of 48th Avenue | None | +635
Ottawa Creek & Ext. Drain/Ottawa Creek/Curry Drain | At the confluence with the Grand River | +600 | +599 | Charter Township of Allendale.
| Approximately 125 feet downstream of 40th Avenue | +600 | +599
Rush Creek | Upstream side of Main Street | +604 | +606 | City of Hudsonville, Charter Township of Georgetown.
| Downstream side of 40th Avenue | None | +615
South Branch | At the confluence with Black Creek of Zeeland Drain | None | +602 | Township of Zeeland.
| Approximately 0.6 mile downstream of Lizbeth Drive | None | +602
Sterns Bayou and Sterns Creek | At the downstream corporate limits of the Township of Robinson | None | +588 | Township of Robinson.
| Downstream side of Ferris Street | None | +588
Traders Creek | At the confluence with the Grand River | None | +597 | Charter Township of Allendale.
| Approximately 830 feet downstream of 60th Avenue | None | +597
Trout Drain | At the confluence with DeWeerd Drain | None | +612 | Charter Township of Georgetown, City of Hudsonville.
| Approximately 315 feet west of 22nd Avenue | None | +623
Tulip Intercounty Drain | At the confluence with Black Creek of Zeeland Drain | +598 | +597 | Township of Holland.
| Approximately 0.4 mile upstream of Adams Street | +598 | +597
Unnamed Tributary 1 to Buttermilk Creek | At the confluence with Buttermilk Creek | None | +651 | City of Hudsonville.
| Approximately 105 feet upstream of northbound I-196 | None | +670
Unnamed Tributary 1 to Crockery Creek | At the confluence with Crockery Creek | None | +591 | Township of Crockery.
| Approximately 850 feet downstream of Leonard Street | None | +591
Unnamed Tributary 1 to Grand River | At the confluence with Grand River | None | +594 | Charter Township of Polkton.
| Approximately 1,900 feet upstream of the confluence with Grand River | None | +594
Unnamed Tributary 2 to Buttermilk Creek | At the confluence with Buttermilk Creek | None | +673 | Township of Jamestown.
| Approximately 100 feet downstream of Quincy Street | None | +702
Unnamed Tributary 2 to Crockery Creek | At the confluence with Crockery Creek | None | +591 | Township of Crockery.
| At the downstream side of I-96 East | None | +591
Unnamed Tributary 2 to Grand River | At the confluence with the Grand River | None | +596 | Charter Township of Polkton.
| Approximately 780 feet upstream of Leonard Street | None | +596
Unnamed Tributary 3 to Crockery Creek | At the confluence with Crockery Creek | None | +591 | Township of Crockery.
| At the downstream side of 104th Avenue | None | +591
Unnamed Tributary 3 to Grand River | At the confluence with the Grand River | None | +596 | Charter Township of Polkton.
| Approximately 930 feet upstream of Leonard Street | None | +596
Unnamed Tributary 4 to Crockery Creek | At the confluence with Crockery Creek | None | +591 | Township of Crockery.
| Approximately 850 feet downstream of Fitzgerald Street | None | +591
Unnamed Tributary 4 to Grand River | At the confluence with the Grand River | None | +596 | Charter Township of Polkton.
| Approximately 1,400 feet upstream of Leonard Street | None | +596
Unnamed Tributary of Bruces Bayou | At the confluence with Bruces Bayou | None | +589 | Township of Crockery.
| Approximately 0.5 mile upstream of the confluence with Bruces Bayou | None | +589
Unnamed Tributary to Bark Creek | At the confluence with Bark Creek | None | +590 | Township of Crockery.
| At the downstream side of Leonard Road | None | +590
Unnamed Tributary to Castle Creek | At the confluence with Castle Creek | None | +595 | Charter Township of Polkton.
| Approximately 1,200 feet upstream of the confluence with Castle Creek | None | +595
Vans Bypass | At the confluence with Bareman Drain | None | +618 | Township of Holland.
| At the divergence from County Drain No. 15 & 17 | None | +619
West Georgetown Shores Lake | Entire shoreline | None | +609 | Charter Township of Georgetown.
Windmill Creek | At the confluence with the Macatawa River | +592 | +593 | Township of Holland.
| At the confluence with County Drain No. 28 and County Drain No. 40 | +596 | +593
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Charter Township of Allendale
Maps are available for inspection at 6676 Lake Michigan Drive, Allendale, MI 49401.
Charter Township of Georgetown
Maps are available for inspection at 1515 Baldwin Street, Jenison, MI 49428.
Charter Township of Polkton
Maps are available for inspection at 6900 Arthur Street West, Coopersville, MI 49404.
Charter Township of Tallmadge
Maps are available for inspection at 0-1451 Leonard Street Northwest, Grand Rapids, MI 49534.
City of Holland
Maps are available for inspection at 270 River Avenue, Holland, MI 49423.
City of Hudsonville
Maps are available for inspection at 3275 Central Boulevard, Hudsonville, MI 49426.
City of Zeeland
Maps are available for inspection at 21 South Elm Street, Zeeland, MI 49464.
Township of Crockery
Maps are available for inspection at 17431 112th Avenue, Nunica, MI 49448.
Township of Holland
Maps are available for inspection at 353 North 120th Avenue, Holland, MI 49424.
Township of Jamestown
Maps are available for inspection at 2380 Riley Street, Jamestown, MI 49427.
Township of Robinson
Maps are available for inspection at 12010 120th Avenue, Grand Haven, MI 49417.
Township of Zeeland
Maps are available for inspection at 6582 Byron Road, Zeeland, MI 49464.
Adams County, Mississippi, and Incorporated Areas
Mississippi River | Approximately 1.9 mile downstream of John R. Junkin Drive | None | +76 | Unincorporated Areas of Adams County.
| Approximately 1.3 mile downstream of John R. Junkin Drive | None | +76
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Adams County
Maps are available for inspection at 115 South Wall Street, Natchez, MS 39210.
Noxubee County, Mississippi, and Incorporated Areas
Tombigbee River | At the Lowndes County boundary | None | +155 | Unincorporated Areas of Noxubee County.
| Approximately 3.1 miles upstream of the Lowndes County boundary | None | +156
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Noxubee County
Maps are available for inspection at the Noxubee County Courthouse, 505 South Jefferson Street, Macon, MS 39341.
Camden County, Missouri, and Incorporated Areas
Niangua River | Approximately 0.9 mile downstream of U.S. Route 54 | None | +668 | City of Camdenton.
| Approximately 0.7 mile downstream of U.S. Route 54 | None | +668
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Camdenton
Maps are available for inspection at City Hall, 437 West U.S. Route 54, Camdenton, MO 65020.
Cape Girardeau County, Missouri, and Incorporated Areas
Apple Creek | Approximately 1,010 feet downstream of U.S. Route 61 | None | +399 | Village of Old Appleton.
| Approximately 200 feet upstream of U.S. Route 61 | None | +403
Goose Creek | Approximately 0.4 mile downstream of County Road 302 | None | +475 | Unincorporated Areas of Cape Girardeau County.
| Approximately 0.5 mile upstream of County Road 302 | None | +503
Goose Creek East Fork | Just upstream of the confluence with Goose Creek | None | +485 | Unincorporated Areas of Cape Girardeau County.
| Approximately 1,490 feet upstream of the confluence with Goose Creek | None | +503
Hubble Creek | Approximately 0.5 mile upstream of Sunset Hills Drive | None | +449 | Unincorporated Areas of Cape Girardeau County.
| Approximately 100 feet upstream of the Southbound Ramp of I-55 | None | +508
Unnamed Tributary to Hubble Creek (Backwater effects from Hubble Creek) | Approximately 500 feet upstream from the confluence with Hubble Creek | None | +441 | Unincorporated Areas of Cape Girardeau County.
| Approximately 635 feet upstream from the confluence with Hubble Creek | None | +441
Mississippi River | Approximately 4.6 miles downstream of State Route 140 | +351 | +348 | City of Cape Girardeau, Unincorporated Areas of Cape Girardeau County.
| Approximately 24.6 miles upstream of State Route 140 | +370 | +368
Ramsey Branch | Approximately 100 feet upstream of I-55 | None | +355 | City of Cape Girardeau, Unincorporated Areas of Cape Girardeau County.
| Approximately 1.5 mile upstream of County Road 314 | None | +474
Rocky Branch | Approximately 200 feet upstream of North Farmington Road | None | +470 | Unincorporated Areas of Cape Girardeau County.
| Approximately 0.6 mile upstream of North Farmington Road | None | +488
Rocky Branch West Fork | Just upstream of the confluence with Rocky Branch | None | +410 | City of Jackson, Unincorporated Areas of Cape Girardeau County.
| Approximately 260 feet upstream of Old Toll Road | None | +446
Veterans Fork | Approximately 1,775 feet downstream of State Highway K | None | +395 | City of Cape Girardeau, Unincorporated Areas of Cape Girardeau County.
| Approximately 1,575 feet upstream of County Road 314 | None | +453
Williams Creek | Just upstream of County Road 318 | +405 | +404 | City of Jackson, Unincorporated Areas of Cape Girardeau County.
| Approximately 1,003 feet upstream of Bainbridge Road | +438 | +441
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Cape Girardeau
Maps are available for inspection at City Hall, 401 Independence Street, Cape Girardeau, MO 63703.
City of Jackson
Maps are available for inspection at City Hall, 101 Court Street, Jackson, MO 63755.
Unincorporated Areas of Cape Girardeau County
Maps are available for inspection at the Cape Girardeau County Courthouse, 1 Barton Square, Jackson, MO 63755.
Village of Old Appleton
Maps are available for inspection at the Village of Old Appleton Town Hall, P.O. Box 61, Old Appleton, MO 63770.
Tioga County, New York (All Jurisdictions)
Apalachin Creek | At the confluence with the Susquehanna River | +825 | +826 | Town of Owego.
| Approximately 1,729 feet upstream of Main Street | +825 | +826
Owego Creek | At the confluence with the Susquehanna River | +814 | +813 | Town of Tioga, Village of Owego.
| Approximately 3,529 feet upstream of Waverly Road/West Main Street | +814 | +813
Susquehanna River | Approximately 2.3 miles upstream of State Highway 17 | +780 | +781 | Town of Barton, Town of Nichols, Town of Owego, Town of Tioga, Village of Nichols, Village of Owego.
| Approximately 2.4 miles upstream of Valley View Drive | +828 | +829
West Branch Owego Creek | Approximately 2.86 miles upstream of West Newark Cross Road | None | +1,028 | Town of Berkshire.
| Approximately 2.95 miles upstream of West Newark Cross Road | None | +1,029
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Barton
Maps are available for inspection at the Barton Town Hall, 304 Route 17C, Waverly, NY 14892.
Town of Berkshire
Maps are available for inspection at the Berkshire Town Hall, 18 Railroad Avenue, Berkshire, NY 13736.
Town of Nichols
Maps are available for inspection at the Nichols Town Hall, 54 East River Road, Nichols, NY 13812.
Town of Owego
Maps are available for inspection at the Owego Town Hall, 2354 State Route 434, Apalachin, NY 13812.
Town of Tioga
Maps are available for inspection at the Tioga Town Hall, 54 5th Avenue, Tioga Center, NY 13845.
Village of Nichols
Maps are available for inspection at the Nichols Town Hall, 54 East River Road, Nichols, NY 13812.
Village of Owego
Maps are available for inspection at the Owego Village Municipal Building, Old Jail, 178 Main Street, Owego, NY 13827.
Guernsey County, Ohio, and Incorporated Areas
Clear Fork | Approximately 175 feet downstream of Birmingham Road | None | +830 | Unincorporated Areas of Guernsey County.
| Approximately 0.5 mile upstream of Birmingham Road | None | +837
Leatherwood Creek | Approximately 174 feet upstream of Linn Road | None | +874 | Unincorporated Areas of Guernsey County, Village of Quaker City.
| At the upstream side of Eldon Road | None | +880
Wills Creek | Approximately 115 feet downstream of CSX Railroad | None | +802 | Unincorporated Areas of Guernsey County.
| Approximately 191 feet upstream of SR 313 | None | +803
Wills Creek and Buffalo Creek | Approximately 0.4 mile downstream of SR 146 | None | +803 | Unincorporated Areas of Guernsey County, Village of Pleasant City.
| Approximately 0.5 mile upstream of SR 146 | None | +806
Wills Creek at Kimbolton | Approximately 375 feet downstream of Main Street | None | +776 | Unincorporated Areas of Guernsey County.
| Approximately 0.8 mile upstream of Main Street | None | +777
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Guernsey County
Maps are available for inspection at 62782 Bennett Avenue, Cambridge, OH 43725.
Village of Pleasant City
Maps are available for inspection at 62782 Bennett Avenue, Cambridge, OH 43725.
Village of Quaker City
Maps are available for inspection at 126 Fair Street, Quaker City, OH 43773.
Rogers County, Oklahoma, and Incorporated Areas
Spunky Creek | Approximately 568 feet downstream of I-44 | None | +580 | Town of Fair Oaks.
| Approximately 1,036 feet upstream of I-44 | None | +580
Spunky Creek Tributary | At the confluence with Spunky Creek | None | +580 | Town of Fair Oaks.
| Approximately 866 feet upstream of the confluence with Spunky Creek | None | +580
Verdigris River and flooding effects of the Verdigris River | Approximately 1,080 feet downstream of the confluence with Unnamed Stream | None | +580 | Town of Fair Oaks.
| Approximately 621 feet downstream of the confluence with Unnamed Stream | None | +580
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Fair Oaks
Maps are available for inspection at 219 South Missouri Street, Claremore, OK 74017.
Meade County, South Dakota, and Incorporated Areas
Bear Butte Creek | Approximately 3,000 feet downstream of Blanche Street | None | +3,341 | Unincorporated Areas of Meade County.
| Approximately 1,632 feet downstream of Blanche Street | None | +3,351
| Approximately 675 feet upstream of 14th Street | +3,472 | +3,473
| Approximately 630 feet upstream of 13th Street | +3,482 | +3,480
Blackhawk Creek | Approximately 20 feet downstream of Deadwood Avenue North | None | +3,382 | Unincorporated Areas of Meade County.
| Approximately 3,800 feet upstream of Anderson Road | None | +3,754
Cook Canyon Creek | Approximately 2,550 feet upstream of Short Track Road | None | +3,593 | Unincorporated Areas of Meade County.
| Approximately 450 feet upstream of I-90 | None | +3,596
Deadman Gulch | Approximately 180 feet upstream of Ballpark Road | +3,509 | +3,506 | Unincorporated Areas of Meade County.
| Approximately 250 feet downstream of I-90 West | +3,534 | +3,530
| Approximately 50 feet upstream of Elk Road | None | +3,604
| Approximately 100 feet upstream of Elk Road | None | +3,808
Dolan Creek | Approximately 500 feet upstream of West Farley Street | None | +3,452 | Unincorporated Areas of Meade County.
| Approximately 1,250 feet downstream of I-90 | None | +3,466
| Approximately 80 feet upstream of Pine Glenn Drive | None | +3,579
| Approximately 160 feet upstream of Glenn Ridge Court | None | +3,615
East Vanocker Creek | Approximately 50 feet downstream of Chicago and Northwestern Railroad | None | +3,555 | Unincorporated Areas of Meade County.
| Approximately 1,660 feet upstream of Chicago and Northwestern Railroad | None | +3,564
Middle Cook Canyon Creek | Approximately 1,400 feet upstream of Short Track Road | None | +3,562 | Unincorporated Areas of Meade County.
| Approximately 1,950 feet upstream of Short Track Road | None | +3,596
South Cook Canyon Creek | Approximately 1,050 feet upstream of Short Track Road | None | +3,552 | Unincorporated Areas of Meade County.
| Approximately 1,835 feet upstream of Short Track Road | None | +3,582
South Dolan Creek | Approximately 2,050 feet upstream of Dolan Creek Road | None | +3,572 | Unincorporated Areas of Meade County.
| Approximately 2,400 feet upstream of Dolan Creek Road | None | +3,575
Vanocker Creek | Approximately 900 feet downstream of Harmon Street | None | +3,462 | Unincorporated Areas of Meade County.
| Approximately 125 feet downstream of Harmon Street | None | +3,472
| Approximately 30 feet upstream of Vanocker Canyon Road | None | +3,596
| Approximately 200 feet upstream of Vanocker Canyon Road | None | +3,597
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Meade County
Maps are available for inspection at the Meade County Courthouse, 1425 Sherman Street, Sturgis, SD 57785.
Grant County, Wisconsin, and Incorporated Areas
Mississippi River | Approximately 2.4 miles downstream of Lock and Dam No. 11 | +611 | +610 | Unincorporated Areas of Grant County, Village of Potosi.
| Approximately 10.8 miles upstream of Lock and Dam No. 11 | +614 | +613
Mississippi River | Approximately 7.4 miles upstream of Lock and Dam No. 10 | None | +625 | Village of Bagley.
| Approximately 8.0 miles upstream of Lock and Dam No. 10 | None | +625
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Grant County
Maps are available for inspection at 111 South Jefferson Street, Lancaster, WI 53813.
Village of Bagley
Maps are available for inspection at 400 South Jackley Lane, Bagley, WI 53801.
Village of Potosi
Maps are available for inspection at 105 North Main Street, Potosi, WI 53820.

(Catalog of Federal Domestic Assistance No. 97.022, “Flood Insurance.”)

Dated: May 5, 2010.
Sandra K. Knight,
Deputy Federal Insurance and Mitigation Administrator, Mitigation, Department of Homeland Security, Federal Emergency Management Agency.

[FR Doc. 2010-12462 Filed 5-24-10; 8:45 am]

BILLING CODE 9110-12-P